ENVIRONMENTAL PROTECTION AGENCY

40 CFR Part 180

[OPP-2002-0043; FRL-7180-2]

Pesticide Tolerance Nomenclature Changes; Proposed Technical Amendment

AGENCY: Environmental Protection Agency (EPA).

ACTION: Proposed rule.

SUMMARY: This document proposes to make minor revisions to the terminology of certain commodity terms listed under 40 CFR part 180, subpart C. EPA is proposing this action to establish a uniform listing of commodity terms.

DATES: Comments, identified by docket ID number OPP-2002-0043, must be received on or before June 16, 2003.

ADDRESSES: Comments may be submitted electronically, by mail, or through hand delivery/courier. Follow the detailed instructions as provided in Unit I. of the SUPPLEMENTARY INFORMATION.

FOR FURTHER INFORMATION CONTACT: Hoyt Jamerson, Registration Division (7505C), Office of Pesticide Programs, Environmental Protection Agency, 1200 Pennsylvania Ave., NW., Washington, DC 20460-0001; telephone number: (703) 308-9368; fax number: (703) 308-9368; e-mail address: jamerson.hoyt@epa.gov.

SUPPLEMENTARY INFORMATION:

I. General Information

A. Does this Action Apply To Me?

You may be potentially affected by this action if you are an agricultural producer, food manufacturer, or pesticide manufacturer. Potentially affected entities may include, but are not limited to:

• Crop production (NAICS 111)

• Animal production (NAICS 112)

• Food manufacturer (NAICS 311)

• Pesticide manufacturer (NAICS 32532)

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established an official public docket for this action under docket identification (ID) number OPP-2002-0043. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/. A frequently updated electronic version of 40 CFR part 180 is available at http://www.access.gpo.gov/nara/cfr/cfrhtml_00/Title_40/40cfr180_00.html, a beta site currently under development. To access an electronic copy of the commodity data base entitled Food and Feed Commodity Vocabulary go to: http://www.epa.gov/pesticides/foodfeed/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

C. How and To Whom Do I Submit Comments?

You may submit comments electronically, by mail, or through hand delivery/courier. To ensure proper receipt by EPA, identify the appropriate docket ID number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e-mail to submit CBI or information protected by statute.

1. Electronically. If you submit an electronic comment as prescribed in this unit, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. Once in the system, select “search,” and then key in docket ID number OPP-2002-0043. The system is an “anonymous access” system, which means EPA will not know your identity, e-mail address, or other contact information unless you provide it in the body of your comment.

ii. E-mail. Comments may be sent by e-mail to opp-docket@epa.gov, Attention: Docket ID Number OPP-2002-0043. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By mail. Send your comments to: Public Information and Records Integrity Branch (PIRIB) (7502C), Office of Pesticide Programs (OPP), Environmental Protection Agency, 1200 Pennsylvania Ave., NW., Washington, DC 20460-0001, Attention: Docket ID Number OPP-2002-0043.

3. By hand delivery or courier. Deliver your comments to: Public Information and Records Integrity Branch (PIRIB), Office of Pesticide Programs (OPP), Environmental Protection Agency, Rm. 119, Crystal Mall #2, 1921 Jefferson Davis Hwy., Arlington, VA, Attention: Docket ID Number OPP-2002-0043. Such deliveries are only accepted during the docket's normal hours of operation as identified in Unit I.A.1.

II. Background

A. What Action is the Agency Taking?

EPA's Office of Pesticide Programs (OPP) has developed a commodity vocabulary data base entitled Food and Feed Commodity Vocabulary. The data base was developed to consolidate all the major OPP commodity vocabularies into one standardized vocabulary. As a result, all future pesticide tolerances issued under 40 CFR part 180 will use the “preferred commodity term” as listed in the aforementioned data base. This is the third in a series of documents revising the terminology of commodity terms listed under 40 CFR part 180. Final rules, revising pesticide tolerance nomenclature, were published in the Federal Register on June 19, 2002 (67 FR 41802) (FRL-6835-2) and June 21, 2002 (67 FR 42392) (FRL-7180-1). This revision process will establish a uniform presentation of existing commodity terms under 40 CFR part 180. In this rule, EPA is making the following format changes to terminology of the commodity terms in 40 CFR part 180 to the extent the terminology is not already in this format:

1. The first letter of the commodity term is capitalized. All other letters, including the first letter of proper names, are changed to lower case.

2. Commodity terms are listed in the singular although there are the following exceptions: “leaves”, “roots”, “tops”, “greens”, “hulls”, “vines”, “fractions”, “shoots”, and “byproducts”.

3. Commodity terms are amended so that generic terms, such as “corn” and “pea”, precede modifying terms, such as “field”, “dry” and “summer”.

4. Abbreviated terms are replaced with the appropriate commodity terms. Examples - “K=CWHR)” is replaced with “kernel plus cob with husks removed” and “POST-H” is replaced with “postharvest”.

5. Parenthesis are replaced with commas. Example - “Cherry (sweet), postharvest” is replaced with “Cherry, sweet, postharvest”.

6. Crop group terms are revised to standardize with the “Food and Feed Vocabulary”. Examples -

i. “Legume vegetables (succulent or dried) group”, “Legume vegetable group (dry and succulent), and “Legume vegetables” are replaced with “Vegetable, legume, group 6”.

ii. “Fruit, stone (cherry, peach, plum, prune) group” is replaced with “Fruit, stone,group 12”.

iii. “Grass forage, fodder and hay” and “Grass, forage, fodder, and hay” are replaced with “Grass, forage, fodder and hay group 17”.

iv. “ Herbs and spices” is replaced with “Herb and spice group 19”.

In addition to format changes to the commodity terms, this document also includes many revisions to the commodity terms. These revisions replace certain commodity terms that are no longer used by EPA with the appropriate matching term in the “Food and Feed Vocabulary”. For example, “Clover, green” is replaced with “Clover, forage”, “Peanut vines” is replaced with “Peanut, hay”, “Swine, meat” is replaced with “Hog, meat”, and “Bushnuts” is replaced with “Nut, macadamia”.

This document also proposes the deletion of certain terms that are not needed to identify the tolerance commodities. Examples -

i. The term “preharvest” (“pre-H” or “(PRE-H)”) is not needed since tolerances and exemptions established under part 180 apply to residues from only preharvest application, unless otherwise specified, in accordance with 40 CFR 180.1(i).

ii. The term “preslaughter” (“(PRE-S)” or “(PRE-S appli)”) is not needed since tolerances and exemptions established under part 180 apply to residues from preslaughter application to livestock, unless otherwise specified.

iii. The terms “nutmeat” and “nutmeats” when used in association with the tree nut crops or peanut are not needed. For tree nut crops, nutmeat and almond hulls are the only edible portions of the crop consumed. Therefore, OPP's Food and Feed Vocabulary uses the commodity terms “Almond”, “Pecan”, “Walnut”, etc. for the tree nuts and the commodity term “Peanut is used in place of “Peanut, nutmeat”. Since almond hulls are fed to livestock, tolerances may be established for “Almond, hulls”.

III. Statutory and Exective Order Reviews

This document proposes technical amendments to the Code of Federal Regulations which have no substantive impact on the underlying regulations, and do not otherwise impose or amend any requirements. As such, the Office of Management and Budget (OMB) has determined that a technical amendment is not a “significant regulatory action” subject to review by OMB under Executive Order 12866, entitled Regulatory Planning and Review (58 FR 51735, October 4, 1993). Because this proposed rule has been exempted from review under Executive Order 12866 due to its lack of significance, this proposed rule is not subject to Executive Order 13211, Actions Concerning Regulations That Significantly Affect Energy Supply, Distribution, or Use (66 FR 28355, May 22, 2001). This proposed rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations under Executive Order 12898, entitled Federal Actions to Address Environmental Justice in Minority Populations and Low-Income Populations (59 FR 7629, February 16, 1994); or OMB review or any Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). The Regulatory Flexibility Act (RFA) (5 U.S.C. 601 et seq.) generally requires an agency to prepare a regulatory flexibility analysis of any rule subject to notice and comment rulemaking requirements under the Administrative Procedure Act or any other statute unless the agency certifies that the rule will not have a significant impact on a substantial number of small entities. Small entities include small businesses, small organizations, and small governmental organizations. After considering the economic impacts of today's proposed rule on small entities, I certify that this action will not have a significant economic impact on a substantial number of small entities. This action proposes technical amendments to the Code of Federal Regulations which have no substantive impact on the underyling regulations. This technical amendment will not have any negative economic impact on any entities, including small entities. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This proposed rule directly regulates growers, food processors, food handlers and food retailers, not States. This action does not alter the relationships or distribution of power and responsibilities established by Congress in the preemption provisions of section 408(n)(4) of the FFDCA. For these same reasons, the Agency has determined that this proposed rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive Order to include regulations that have “substantial direct effects on one or more Indian tribes, on the relationship between the Federal Government and the Indian tribes, or on the distribution of power and responsibilities between the Federal Government and Indian tribes.” This proposed rule will not have substantial direct effects on tribal governments, on the relationship between the Federal Government and Indian tribes, or on the distribution of power and responsibilities between the Federal Government and Indian tribes, as specified in Executive Order 13175. Thus, Executive Order 13175 does not apply to this proposed rule.

List of Subjects in 40 CFR Part 180

Environmental protection, Administrative practice and procedure, Agricultural commodities, Pesticides and pest, Reporting and recordkeeping requirements.

Dated: April 9, 2003.
James Jones
Director, Office of Pesticide Programs.

Therefore, 40 CFR part 180 is proposed to be amended as follows:

PART 180—[AMENDED]

1. The authority citation for part 180 continues to read as follows:

Authority: 21 U.S.C. 321(q), 346(a) and 371.

§ 180.301 [Amended]

2. In § 180.301, the table to paragraph (a) is amended by changing the term “ Corn, fresh, including sweet corn (K=CWHR)” to read “Corn, sweet, kernel plus cob with husks removed” and by realphabetizing the entry into the table.

3. In 180.491, the table to paragraph (a)(3) is revised to read as follows:

§ 180.491 Propylene oxide; tolerances for residues.

(a) * * *

(3) * * *

Commodity | Parts per million
Cocoa bean, bean | 300
Gum, edible | 300
Nutmeat, processed, except peanuts | 300
Spices, processed | 300

§ 180.495 [Amended]

4. In § 180.495, the table to paragraph (a) is amended by changing the entry “Poultry, eggs” to read “Egg” and by realphabetizing the entry into the table.

Subpart C— [Amended]

5. Subpart C is amended as follows:

i. By removing the following terms wherever they appear in subpart C:

a. (Pre-H)

b. pre-H

c. (PRE-H)

d. (negligible residue)

e. , nutmeat

f. , nutmeats

g. nut meat

h. nutmeat

i. nutmeats

j. (nutmeats)

k. (nuts)

l. (= N in whole milk)

m. (PRE-S appli)

n. (pre-s)

ii. In the following table, by changing the term exactly as it appears in the Existing Term column to read exactly like the term in the New Term column wherever it appears in subpart C, and by realphabetizing the new term where necessary.

Existing Term | New Term
Almond, meat | Almond
Amaranth, grain | Amaranth, grain, grain
Animal feed, nongrass, group | Animal feed, nongrass, group 18
Animal feed, nongrass, group, except alfalfa | Animal feed, nongrass, group 18, except alfalfa
Aspirated grain fractions | Grain, aspirated fractions
Banana, pulp with peel removed | Banana, pulp
Banana, whole | Banana
Bean, dry | Bean, dry, seed
Bean, green, postharvest | Bean, succulent, postharvest
Bean, guar | Guar, seed
Bean, lima (green) | Bean, lima, succulent
Bean, mung, dry | Bean, mung, seed
Bean, snap | Bean, snap, succulent
Bean, snap, postharvest | Bean, snap, succulent, postharvest
Bean vine forage | Bean, forage
Beeswax | Honeycomb
Beet | Beet, garden
Beet, greens | Beet, garden, tops
Beet greens (alone) | Beet, garden, tops
Beet, roots | Beet, garden, roots
Beet, sugar, pulp | Beet, sugar, dried pulp
Beet, sugar, pulp (dried and/or dehydrated) | Beet, sugar, dried pulp
Beet, sugar, without tops | Beet, sugar, roots
Beet, tops | Beet, garden, tops
Black walnut meats | Walnut, black
Berry group | Berry group 13
Brassica, head and stem, subgroup | Brassica, head and stem, subgroup 5A
Brassica, head . stem subgroup (5-A) | Brassica, head and stem, subgroup 5A
Brassica, head and stem, subgroup, excluding cabbage | Brassica, head and stem, subgroup 5A, except cabbage
Brassica, leafy greens, subgroup | Brassica, leafy greens, subgroup 5B
Brassica, leafy greens, subgroup (Crop Subgroup 5-B) | Leafy greens subgroup 4A
Brassica vegetables crop group | Vegetable, brassica, leafy, group 5
Buckwheat, postharvest | Buckwheat, grain, postharvest
Buckwheat | Buckwheat, grain
Bushberry subgroup | Bushberry subgroup 13B
Bushnuts | Nut, macadamia
Canarygrass, annual, seed | Grass, canary, annual, seed
Canberries | Caneberry subgroup
Caneberries subgroup | Caneberry subgroup 13A
Caneberry crop subgroup | Caneberry subgroup 13A
Caneberry subgroup | Caneberry subgroup 13A
Canola | Canola, seed
Carambola | Starfruit
Carrot | Carrot, roots
Carrots | Carrot, roots
Carrot, postharvest | Carrot, roots, postharvest
Cattle, milk | Milk
Cherry, sour | Cherry, tart
Cherry (sour) | Cherry, tart
Cherry (sweet), postharvest | Cherry, sweet, postharvest
Chickpea | Chickpea, seed
Chickpeas | Chickpea, seed
Chick pea, seed (dry) | Chickpea, seed
Cilantro | Coriander
Cilantro, leaves | Coriander, leaves
Cipollini, bulb, postharvest | Onion, cipollini, bulb, postharvest
Citrus, pulp | Citrus, dried pulp
Citrus whole fruit | Citrus
Clover, chaff, grown for seed | Clover, seed screenings
Clover, fresh | Clover, forage
Clover, green | Clover, forage
Cocoa | Cocoa bean, dried bean
Cocoa bean | Cocoa bean, dried bean
Coffee | Coffee, bean
Copra | Coconut, copra
Copra, postharvest | Coconut, copra, postharvest
Corn, field, fodder | Corn, field, stover
Corn, field, forage (silage) | Corn, field, forage
Corn, field, milling fractions | Corn, field, milled byproducts
Corn, field, stover (fodder) | Corn, stover
Corn, fodder | Corn, stover
Corn, fodder (dry) | Corn, stover
Corn, fodder (field) | Corn, field, stover
Corn, fodder, field (dry) | Corn, field, stover
Corn, fodder, field (green) | Corn, field, stover
Corn, fodder, pop | Corn, pop, stover
Corn, fodder, sweet | Corn, sweet, stover
Corn, fresh | Corn, sweet, kernal plus cob with husks removed
Corn oil | Corn, field, refined oil
Corn, pop, fodder | Corn, pop, stover
Corn, pop, stover (fodder) | Corn, pop, stover
Corn, silage | Corn, field, forage
Corn, sweet, fodder | Corn, sweet, stover
Cottonseed | Cotton, undelinted seed
Crambe | Crambe, seed
Crop Group 16 (forage, stover and hay of Grain cereal) | Grain, cereal, forage, fodder and straw, Group 16
Crop Group 15 (Grain, cereal) | Grain, cereal, group 15
Crop Group 17 (grass, forage, and grass, hay) | Grass, forage, fodder and hay, group 17
Dandelions | Dandelion, leaves
Egg, whole | Egg
Field corn, fodder | Corn, field, stover
Filberts (hazelnuts) | Hazelnut
Filbert (Hazelnuts), postharvest | Hazelnut, postharvest
Flaxseed | Flax, seed
Flaxseed meal | Flax, meal
Foliage of legume vegetables | Vegetable, foliage of legume, group 7
Foliage of legume vegetables crop group (foliage) | Vegetable, foliage of legume, group 7
Foliage of legume vegetables (except soybean) | Vegetable, foliage of legume, except soybean, subgroup 7A
Fruit, citrus, group | Fruit, citrus, group 10
Fruit, pome, crop group | Fruit, pome, group 11
Fruit, pome, group | Fruit, pome, group 11
Fruit, stone (cherry, peach, plum, prune), group | Fruit, stone, group 12
Fruit, stone, group | Fruit, stone, group 12
Fruit, stone, group 12, except cherries | Fruit, stone, group 12, except cherry
Fruit, stone, group, except plum | Fruit, stone, group 12, except plum
Fruit, stone, group, except plum and prune | Fruit, stone, group 12, except plum and plum, prune, fresh
Fruit, stone, group, except fresh prune plum | Fruit, stone, group 12, except plum, prune, fresh
Forage, fodder, and straw of Grains, cereal crop group (forage) | Grain, cereal, forage, fodder and straw, group 16, forage
Forage, fodder, and straw of Grains, cereal crop group (hay) | Grain, cereal, forage, fodder and straw, group 16, hay
Forage, fodder, and straw of Grains, cereal crop group (stover) | Grain, cereal, forage, fodder and straw, group 16, stover
Forage, fodder, and straw of Grains, cereal crop group (straw) | Grain, cereal, forage, fodder and straw, group 16, straw
Garbanzo bean | Chickpea, seed
Ginseng | Ginseng, root
Ginseng, dried | Ginseng, dried root
Ginseng root, fresh | Ginseng, root
Grain, aspirated grain fractions | Grain, aspirated fractions
Grain, cereal crop group (grain) | Grain, cereal, group 15
Grain, cereal forage, fodder and straw, group | Grain, cereal, forage, fodder and straw, group 16
Grain, cereal, group | Grain, cereal, group 15
Grain, cereal, group, except wheat | Grain, cereal, group 15, except wheat
Grain, cereal, group (except barley, field corn, grain sorghum, oats, and wheat) | Grain, cereal, group 15, except barley, field corn, grain sorghum, oat, and wheat
Grains, Cereal, Forage, Fodder, and Straw, group | Grain, cereal, forage, fodder and straw, group 16
Grains, Cereal, Group | Grain, cereal, group 15
Grass, canary, annual straw | Canarygrass, annual, hay
Grass fodder | Grass, hay
Grass forage, fodder and hay | Grass, forage, fodder and hay, group 17
Grass, forage, fodder, and hay | Grass, forage, fodder and hay, group 17
Grass, forage, fodder and hay, group | Grass, forage, fodder and hay, group 17
Grass, hay (pasture and rangeland) | Grass, hay
Grass, seed cleanings (including hulls) | Grass, seed screenings
Grass, seed straw (including chaff) | Grass, straw, grown for seed
Head and stem Brassica crop subgroup | Brassica, head and stem, subgroup 5A
Herb and spice group | Herb and spice group 19
Herbs and spices | Herbs and spices group 19
Herb subgroup | Herb subgroup 19A
Herbs subgroup | Herb subgroup 19A
Hop, fresh | Hop, vine
Hop, green | Hop, vine
(inc. sweet K=CWHR) | , kernel plus cob with husks removed
(inc sweet K=CWHR) | , kernel plus cob with husks removed
(including sweet K=CWHR) | , kernel plus cob with husks removed
Leafy greens crop subgroup | Leafy greens subgroup 4A
Leafy greens subgroup | Leafy greens subgroup 4A
Leafy petioles subgroup | Leafy petioles subgroup 4B
Leafy vegetable (except Brassica) crop group | Vegetable, leafy, except brassica, group 4
Leafy vegetable (except Brassica) vegetables group | Vegetable, leafy, except brassica, group 4
Leafy vegetables (except brassica) group (except spinach) | Vegetable, leafy, except brassica, group 4, except spinach
Leaves of root and tuber vegetables (human food or animal feed) group | Vegetable, leaves of root and tuber, group 2
Legume vegetable group foliage (except soybean, forage and soybean, hay) | Vegetable, foliage of legume, except soybean, subgroup 7A
Legume vegetable group (dry or succulent) | Vegetable, legume, group 6
Legume vegetable group (dry and succulent) | Vegetable, legume, group 6
Legume vegetable (succulent or dried) group | Vegetable, legume, group 6
Legume vegetables | Vegetable, legume, group 6
Legume vegetables crop group, seed | Vegetable, legume, group 6
Legume vegetables (succulent or dried) group | Vegetable, legume, group 6
Legume vegetable (succulent or dried group, excluding soybeans) | Vegetable, legume, group 6, except soybean
Lentils | Lentil, seed
Mandarins | Tangerines
Melon subgroup | Melon subgroup 9A
Mustard, Chinese | Mustard greens
Nongrass animal feed (forage, fodder, straw, and hay) | Animal feed, nongrass, group 18 group
Nut, tree crop group | Nut tree, group 14
Nut, tree, group | Nut, tree, group 14
Nut, tree, group (except Almond, hulls) | Nut, tree, group 14
Oat, fodder | Oat, straw
Oat, forage, green | Oat, forage
Oat, green forage | Oat, forage
Orange | Orange, sweet
Oranges | Orange, sweet
Parsley | Parsley, leaves
Parsley, root | Parsley, turnip rooted, roots
Pea and bean, dried shelled, except soybean, subgroup | Pea and bean, dried shelled, except soybean, subgroup 6C
Pea and bean, succulent shelled, subgroup | Pea and bean, succulent shelled, subgroup 6B
Peach (including nectarines) | Peach
Pea, dried | Pea, dry, seed
Pea, dry | Pea, dry, seed
Pea, forage | Pea, field vines
Pea, hay | Pea, field, hay
Peanut forage | Peanut, hay
Peanut, oil | Peanut, refined oil
Peanut, shells | Peanut, hulls
Pea, southern, blackeyed | Pea, blackeyed
Peanut, vines | Peanut, hay
Peanut forage and hay | Peanut, hay
Pigeon peas | Pea, pigeon, seed
Pineapple bran (wet and dry) | Pineapple, bran
Pistachio nut | Pistachio
Pistachio nuts | Pistachio
Plum, dried | Plum, prune, dried
Potato, waste, dried | Potato, processed potato waste
(PRE- and POST-H) | , postharvest
Raisin | Grape, raisin
Raisins | Grape, raisin
Raisin waste | Grape, raisin, waste
Rape forage | Rapeseed, forage
Rapeseed | Rapeseed, seed
Rape seed | Rapeseed, seed
Rice | Rice, grain
Rice, fodder | Rice, straw
(roots PRE-H) | , roots
Rye, fodder | Rye, straw
Rye, forage, green | Rye, forage
Rye, green forage | Rye, forage
Rye, hay | Rye, forage
Safflower | Safflower, seed
Sorghum, aspirated grain fractions | Grain, aspirated fractions
Sorghum forage | Sorghum, forage
Sorghum, forage | Sorghum, grain, forage
Sorghum grain | Sorghum, grain
Sorghum, green forage | Sorghum, forage, hay
Sorghum milling fraction | Sorghum, grain, flour
Sorghum milling fractions (except flour) | Sorghum, grain, bran
Sorghum (milo) | Sorghum, grain
Sorghum, stover | Sorghum, grain, stover
Sorghum, hay | Sorghum, forage, hay
Sorgum, fodder | Sorghum, grain, stover
Soybean grain | Soybean, seed
Soybean, oil | Soybean, refined oil
Spearmint | Spearmint, tops
Spearmint hay | Spearmint, hay
Spice subgroup | Spice subgroup 19B
Spices subgroup | Spice subgroup 19B
Squash/Cucumber subgroup | Squash/Cucumber subgroup 9B
Sugarbeet, pulp | Beet, sugar, dried pulp
Sugarcane | Sugarcane, cane
Sunflower | Sunflower, seed
Sunflowers | Sunflower, seed
Sweet potato | Sweet potato, roots
Swine, fat | Hog, fat
Swine, kidney | Hog, kidney
Swine, liver | Hog, liver
Swine, meat | Hog, meat
Swine, meat byproducts | Hog, meat byproducts
Tomato, fresh | Tomato
Tomato, fruit | Tomato
(tops PRE-H) | tops
Tree nut (crop group 14), nutmeat | Nut, tree, group 14
Tree nuts (crop group 14) | Nut, tree, group 14
Tuberous and Corm, Vegetable Crop Subgroup | Vegetable, tuberous and corm, subgroup 1C
Turnip, greens, tops | Turnip, greens
Turnip, tops | Turnip, greens
Wheat, fodder | Wheat, straw
Wheat, fodder, green | Wheat, hay
Wheat, forage (green) | Wheat, forage
Wheat, forage, green | Wheat, forage
Wheat, green fodder | Wheat, hay
Wheat, green forage | Wheat, forage
Wheat, stover | Wheat, straw
Vegetable, brassica, leafy, group | Vegetable, brassica, leafy, group 5
Vegetable, brassica, leafy group | Vegetable, brassica, leafy, group 5
Vegetable, brassica, leafy, group (except broccoli, cabbage, cauliflower, brussels sprouts, and mustard greens) | Vegetable, brassica, leafy, group 5, except broccoli, cabbage, cauliflower, brussels sprouts, and mustard greens
Vegetable, bulb, group | Vegetable, bulb, group 3
Vegetable, cucurbit, crop group | Vegetable, cucurbit, group 9
Vegetable, cucurbit, group | Vegetable, cucurbit, group 9
Vegetable, cucurbit, group (Crop Group 9) | Vegetable, cucurbit, group 9
Vegetable, cucurbit, melon, crop subgroup 9-A | Melon subgroup 9A
Vegetable, foliage of legume, except soybean, subgroup | Vegetable, foliage of legume, except soybean, subgroup 7A
Vegetable, foliage of legume, group (except soybean, forage and hay) | Vegetable, foliage of legume, except soybean, subgroup 7A
Vegetable, foliage of legume, group | Vegetable, foliage of legume, group 7
Vegetable, fruiting Crop Group | Vegetable, fruiting, group 8
Vegetable, fruiting, group (Crop Group 8) | Vegetable, fruiting, group 8
Vegetable, fruiting (except cucurbits) group | Vegetable, fruiting, group 8
Vegetables, fruiting (except cucurbits), group | Vegetable, fruiting, group 8
Vegetable, fruiting, group | Vegetable, fruiting, group 8
Vegetable, fruiting group | Vegetable, fruiting, group 8
Vegetable, fruiting, group (except cucurbits) | Vegetable, fruiting, group 8
Vegetable, fruiting, except cucurbit | Vegetable, fruiting, group 8
Vegetable, fruiting, crop group | Vegetable, fruiting, group 8
Vegetable, leaf petiole, subgroup | Leafy petioles subgroup 4B
Vegetable, leafy, except brassica, group | Vegetable, leafy, except brassica, group 4
Vegetable, leafy, except brassica, group (Crop Group 4) | Vegetable, leafy, except brassica, group 4
Vegetable, leafy, except Brassica, group | Vegetable, leafy, except brassica, group 4
Vegetable, leafy group, except brassica | Vegetable, leafy, except brassica, group 4
Vegetable, leaves of root and tuber, group | Vegetable, leaves of root and tuber, group 2
Vegetable, leaves of root and tuber, group (except sugar beet tops) | Vegetable, leaves of root and tuber, group 2, except sugar beet
Vegetable, legume, edible podded, subgroup | Vegetable, legume, edible podded, subgroup 6A
Vegetables, legume, edible podded, subgroup | Vegetable, legume, edible podded, subgroup 6A
Vegetable, legume, group | Vegetable, legume, group 6
Vegetable, legume, group (except soybean) | Vegetable, legume, group 6, except soybean
Vegetable, root and tuber, group | Vegetable, root and tuber, group 1
Vegetable, root, except sugar beet, subgroup | Vegetable, root, except sugar beet, subgroup 1B
Vegetable, root (except sugar beet) subgroup | Vegetable, root, except sugar beet, subgroup1B
Vegetable, root and tuber, group (except sugar beet) | Vegetable, root and tuber, group 1, except sugar beet
Vegetable, root, subgroup | Vegetable, root, subgroup 1A
Vegetable, tuberous and corm, except potato, subgroup | Vegetable, tuberous and corm, except potato, subgroup 1D
Vegetable, tuberous and corm, subgroup | Vegetable, tuberous and corm, subgroup 1C
Vegetable, tuberous and corm, subgroup (Crop Subgroup 1-C) | Vegetable, tuberous and corm, subgroup 1C
Yams | Yam, true, tuber

[FR Doc. 03-9483 Filed 4-16-03; 8:45 am]

BILLING CODE 6560-50-S